DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of October and November, 2002.

In order for an affirmative determination to be made and a certification of eligibility to apply for worker adjustment assistance to be issued, each of the group eligibility requirements of Section 222 of the Act must be met.

(1) That a significant number or proportion of the workers in the workers' firm, or an appropriate subdivision thereof, have become totally or partially separated,

(2) That sales or production, or both, of the firm or sub-division have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-41,368; Komtek, Worcester, MA

TA-W-41,075; Altec Industries, Inc., Plains, PA

TA-W-41,451; Powerex, Inc., Youngwood, PA

TA-W-42,272; Mountain Fir Chip Co., Main Office, Salem, OR A; The Dalles Div., The Dalles, OR, B; Lewiston Div., Lewiston, ID C; Wilma Div., Clarkston, WA

TA-W-42,078; Americal Corp., Goldsboro, NC

TA-W-42,170; FMC Corp., Active Oxidants Div., Tonawanda, NY

TA-W-42,207A; Xerox Corp., Small Office/Home Office Div. (SOHO), Webster, NY

TA-W-42,247; Tecmotiv Manufacturing Corp., a Subsidiary of Tecmotiv (USA), Inc., Tonawanda, NY

TA-W-42,166; Best Manufacturing, Johnson City Div., Johnson City, TN

In the following cases, the investigation revealed that the criteria for eligibility have not been met for the reasons specified.

Increased imports did not contribute importantly to worker separations at the firm.

TA-W-42,046; B-W Specialty Manufacturing, Seattle, WA

The workers firm does not produce an article as required for certification under Section 222 of the Trade Act of 1974.

TA-W-42,512A; Maintenance and Industrial Services, Greenville, SC

TA-W-42,152; Pringle Power-Vac, Inc., Walla Walla, WA

TA-W-42,130; Volt Services Group, Hewlett-Packard, Vancouver, WA

The investigation revealed that criteria (1) has not been met. A Significant number or proportion of the workers did not become totally or partially separated from employment as required for certification.

TA-W-42,260; Miss Dorby, Div. of Dorby Frocks, New York, NY

The investigation revealed that criteria (2) has not been met. Sales or production did not decline during the relevant period as required for certification.

TA-W-42,250; E.J. Snyder and Co., Inc., Albermarle, NC

TA-W-42,191; Tytex, Inc., USA, Woonsocket, RI

Affirmative Determinations for Worker Adjustment Assistance

The following certifications have been issued; the date following the company name and location of each determination references the impact date for all workers of such determination.

TA-W-41,512; Pillowtex Corp., Weave Plant and Finishing Plant Phenix City, AL: April 3, 2001.

TA-W-41,848; Jam'ng Five, Medley, FL: June 25, 2001.

TA-W-42,115; Federal-Mogul Corp., Lighting Div., Sevierville, TN: August 30, 2001

TA-W-42,123; Coleman Cable, Inc., El Paso, TX: August 27, 2001.

TA-W-42,174; Sterling Fibers, Inc., Pace, FL: September 17, 2001.

TA-W-42,259; Colabria Fashions, Inc., New Rochelle, NY: October 11, 2001.

TA-W-42,267; Simula Automotive Safety Devices, Inc., Tempe, AZ: September 20, 2001.

TA-W-42,073; Wilson Sporting Goods Compant, Golf Club Div., Tullahoma, TN: August 15, 2001.

TA-W-42,285; GE Motors Operation, Murfreesboro, TN: October 21, 2001.

TA-W-42,300; Lake Village Industries, a Subsidiary of Superior Uniform Group, Inc., Lake Village, AR: October 10, 2001.

TA-W-42,244; X-Cell Tool and Die, Inc., Erie, PA: September 23, 2001.

TA-W-42,221; Marconi Communications, Network Components, Lorain, OH and A; Avon, OH, B; Elyria, OH: September 3, 2001.

TA-W-42,216 &A; Alba-Waldensian, Inc., Pineburr Plant/Research and Development, Valdese, NC and Corporate Office, Valdese, NC: August 23, 2001.

TA-W-42,210; Presto Products Manufacturing Co., Alamogordo, NM: September 19, 2001.

TA-W-42,109; Ansell Healthcare Products, Inc., Troy, AL: September 6, 2001.

TA-W-42,096; Ralph Lauren Womenswear, Inc., Carlstadt, NJ: August 26, 2001.

TA-W-42,092; JTM Group, Inc., Jamestown, NY: August 11, 2001.

TA-W-42,072; Federal-Mogul Corp (Including Temporary Workers from Mictotech, Inc., Waltham, MA), Brighton, MA: August 21, 2002.

TA-W-42,064; SMTC Manufacturing Corp., Austin, TX: August 16, 2001.

TA-W-41,961; Gilman Engineering and Manufacturing Co., LLC, Janesville, WI: July 20, 2001.

TA-W-41,948; Buck Forkardt, Inc., Kalamazoo, MI: July 24, 2001.

TA-W-41,770; RFS Ecusta, Pisgah Forest, NC: May 21, 2001.

Also, pursuant to Title V of the North American Free Trade Agreement Implementation Act (P.L. 103-182) concerning transitional adjustment assistance hereinafter called (NAFTA-TAA) and in accordance with Section 250(a), Subchaper D, Chapter 2, Title II, of the Trade Act as amended, the Department of Labor presents summaries of determinations regarding eligibility to apply for NAFTA-TAA issued during the months of October and November, 2002.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-06372; Jam'ng Five, Medley, FL

NAFTA-TAA-07580; JTM Group, Inc., Jamestown, NY

NAFTA-TAA-07610; Mountain Fir Chip Co., Main Office, Salem, OR, A; The Dalles Div., The Dalles, OR, B; Lewiston Div., Lewiston, ID, C; Wilma Div., Clarkston, WA

NAFTA-TAA-07617; Tecmotiv Manufacturing Corp., a Subsidiary of Tecmotiv (USA), Inc., Tonawanda, NY

The investigation revealed that the criteria for eligibility have not been met for the reasons specified.

The investigation revealed that workers of the subject firm did not produce an article within the meaning of Section 250(a) of the Trade Act, as amended.

NAFTA-TAA-07561; Comair Rotron, Inc., San Diego, CA

NAFTA-TAA-07601; Panapage Co., Inc. d/b/a/ Panavision Chicago, Chicago, IL

The investigation revealed that criteria (1) has not been met. A significant number or proportion of the workers in such workers' firm or an appropriate subdivision (including workers in any agricultural firm or appropriate subdivision thereof) did not become totally or partially separated from employment as required for certification.

NAFTA-TAA-07243; State of Alaska Commercial Fisheries Entry Commission Permit #64891C, King Salmon, AK

NAFTA-TAA-07310; State of Alaska Commercial Fisheries Entry Commission Permit #64922S, Manokotak, AK

NAFTA-TAA-07197; State of Alaska Commercial Fisheries Entry Commission Permit #64699Z, Dillingham, AK

NAFTA-TAA-07196; State of Alaska Commercial Fisheries Entry Commission Permit #61256Z, Dillingham, AK

NAFTA-TAA-07185; State of Alaska Commercial Fisheries Entry Commission Permit #S04T64806J, Dillingham, AK

NAFTA-TAA-07138; State of Alaska Commercial Fisheries Entry Commission Permit #56023B, Dillingham, AK

NAFTA-TAA-07071; State of Alaska Commercial Fisheries Entry Commission Permit #64825K, Togiak, AK

NAFTA-TAA-07069; State of Alaska Commercial Fisheries Entry Commission Permit #55947S, Togiak, AK

NAFTA-TAA-07050; State of Alaska Commercial Fisheries Entry Commission Permit #59350N, Togiak, AK

NAFTA-TAA-07049; State of Alaska Commercial Fisheries Entry Commission Permit #57680K, Togiak, AK

NAFTA-TAA-07011; State of Alaska Commercial Fisheries Entry Commission Permit #50141A, Togiak, AK

NAFTA-TAA-06998; State of Alaska Commercial Fisheries Entry Commission Permit #66428A, Togiak, AK

NAFTA-TAA-06993; State of Alaska Commercial Fisheries Entry Commission Permit #61322R, South Naknek, AK

NAFTA-TAA-06989; State of Alaska Commercial Fisheries Entry Commission Permit #55824M, South Naknek, AK

NAFTA-TAA-06992; State of Alaska Commercial Fisheries Entry Commission Permit #58847H, South Naknek, AK

NAFTA-TAA-06988; State of Alaska Commercial Fisheries Entry Commission Permit #60847U, South Naknek, AK

NAFTA-TAA-06983; State of Alaska Commercial Fisheries Entry Commission Permit #64247N, South Naknek, AK

NAFTA-TAA-06933; State of Alaska Commercial Fisheries Entry Commission Permit #58614S, New Stuyahok, AK

NAFTA-TAA-06916; State of Alaska Commercial Fisheries Entry Commission Permit #56222Z, New Stuyahok, AK

NAFTA-TAA-07444; State of Alaska Commercial Fisheries Entry Commission Permit #57783X, South Naknek, AK

NAFTA-TAA-07447; State of Alaska Commercial Fisheries Entry Commission Permit #58751S, South Naknek, AK

NAFTA-TAA-07452; State of Alaska Commercial Fisheries Entry Commission Permit #56213V, South Naknek, AK

NAFTA-TAA-07454; State of Alaska Commercial Fisheries Entry Commission Permit #65820Z, South Naknek, AK

NAFTA-TAA-07473; State of Alaska Commercial Fisheries Entry Commission Permit #65633H, South Naknek, AK

NAFTA-TAA-07479; State of Alaska Commercial Fisheries Entry Commission Permit #68318S, Togiak, AK

NAFTA-TAA-07498; State of Alaska Commercial Fisheries Entry Commission Permit #59702V, Togiak, AK

NAFTA-TAA-07500; State of Alaska Commercial Fisheries Entry Commission Permit #64943H, Togiak, AK

NAFTA-TAA-06907; State of Alaska Commercial Fisheries Entry Commission Permit #60305A, Naknek, AK

NAFTA-TAA-06556; State of Alaska Commercial Fisheries Entry Commission Permit #59347M, Aleknagik, AK

NAFTA-TAA-06592; State of Alaska Commercial Fisheries Entry Commission Permit #57392Q, Dillingham, AK

NAFTA-TAA-06596; State of Alaska Commercial Fisheries Entry Commission Permit #66427I, Dillingham, AK

NAFTA-TAA-06674; State of Alaska Commercial Fisheries Entry Commission Permit #64887H, Dillingham, AK

NAFTA-TAA-06824; State of Alaska Commercial Fisheries Entry Commission Permit #56509B, Hevelock, AK

NAFTA-TAA-06867; State of Alaska Commercial Fisheries Entry Commission Permit #67004Z, Naknek, AK

NAFTA-TAA-06069; Permit #61913O, Manokotak, AK

NAFTA-TAA-07450; Permit #59803W, South Naknek, AK

NAFTA-TAA-07429; Permit #58385W, Pilot Point, AK

NAFTA-TAA-07449; Permit #58296E, South Naknek, AK

NAFTA-TAA-06560; Permit #61977V, Clarks Point, AK

NAFTA-TAA-06590; Permit #59590W, New Stuyahok, AK

NAFTA-TAA-06758; Permit #56087G, Ekwok, AK

NAFTA-TAA-06794; Permit #67507U, King Salmon, AK

NAFTA-TAA-06890; Permit #56569N, Anchorage, AK

NAFTA-TAA-06888, Permit #61249B, Naknek, AK

NAFTA-TAA-06931; Permit #57641L, New Stuyahok, AK

NAFTA-TAA-06953; Permit #62030E, Pilot Point, AK

Affirmative Determinations NAFTA-TAA

NAFTA-TAA-06482; Farley's and Sathers Candy Co., Inc., Oklahoma City Plant, Oklahoma City, OK: August 12, 2001.

NAFTA-TAA-06505; Hudson RCI, Temecula, CA: August 9, 2001.

NAFTA-TAA-06483; Federal-Mogul Corp., (Including Temporary Workers from Microtech, Inc., Waltham, MA), Brighton, MA: August 21, 2001.

NAFTA-TAA-06509; Dana Corp., Perfect Circle Div., Hastings, NE: August 23, 2001.

NAFTA-TAA-06855; Permit #651913O, New Stuyahok, AK: September 5, 2001.

NAFTA-TAA-06997; Permit #59196Q, Togiak, AK: September 5, 2001.

NAFTA-TAA-07258; Permit #60363F, King Salmon, AK: September 5, 2001.

NAFTA-TAA-07300; Permit #60027H, Manokotak, AK: September 5, 2001.

NAFTA-TAA-07555; Federal-Mogul Corp., Lighting Div., Sevierville, TN: August 30, 2001.

NAFTA-TAA-07579 A &B; Marconi Communications, Network Components, Lorain, OH, Avon, OH and Elyria, OH: September 30, 2001.

NAFTA-TAA-06505; Hudson RCI, Temecula, CA: August 9, 2001.

NAFTA-TAA-06201; Topsail Electronics, Inc., Wendell, NC: May 14, 2001.

NAFTA-TAA-06334; Nortel Networks Corp., Billerica, MA: July 1, 2001.

NAFTA-TAA-06421; Buck Forkardt, Inc., Kalamazoo, MI: July 24, 2001.

NAFTA-TAA-06623; State of Alaska Commercial Fisheries Entry Commission Permit #61948U, Dillingham, AK: September 5, 2001.

NAFTA-TAA-06807; State of Alaska Commercial Fisheries Entry Commission Permit #55325L, Koliganek, AK: September 5, 2001.

NAFTA-TAA-06847; State of Alaska Commercial Fisheries Entry Commission Permit #58402S, Manokotak, AK: September 5, 2001.

NAFTA-TAA-06939; State of Alaska Commercial Fisheries Entry Commission Permit #63406X, New Stuyahok, AK: September 5, 2001.

NAFTA-TAA-07009; Bristol Bay Salmon Fishermen State of Alaska Commercial Fisheries Entry Commission Permit #58110G, Togiak, AK: September 5, 2001.

NAFTA-TAA-07107; State of Alaska Commercial Fisheries Entry Commission Permit #59800U, Dillingham, AK: September 5, 2001.

I hereby certify that the aforementioned determinations were issued during the months of October and November, 2002. Copies of these determinations are available for inspection in Room C-5311, U.S. Department of Labor, 200 Constitution Avenue, NW., Washington, DC 20210 during normal business hours or will be mailed to persons who write to the above address.

Dated: November 12, 2002.
Edward A. Tomchick,
Director, Division of Trade Adjustment Assistance.

[FR Doc. 02-29701 Filed 11-21-02; 8:45 am]

BILLING CODE 4510-30-P